DEPARTMENT OF JUSTICE

Notice of Extension of Public Comment Period Regarding Lodging of Consent Decree Pursuant to the Clean Air Act

On January 25, 2008 (73 FR 4629), the United States Department of Justice published notice of the lodging of a Consent Decree in United States v. S.H. Bell Company (“S.H. Bell”), Civil Action No. 4:08-cv-96 (N.D. Ohio). The United States is now extending the period for public comment through and including March 10, 2008. All comments from the public on the Consent Decree described below must be received by that date.

The proposed Consent Decree was lodged with the United States District Court for the Northern District of Ohio on January 14, 2008. The Consent Decree resolves claims against S.H. Bell brought by the United States on behalf of the Environmental Protection Agency (“EPA”) for violations of the Clean Air Act (“CAA”), 42 U.S.C. 7401-7671q, regulations implementing the CAA, the Ohio State Implementation Plan (“Ohio SIP”) and the Pennsylvania State Implementation Plan (“Pennsylvania SIP”) at two terminals of S.H. Bell's facility located at 2217 Michigan Avenue (Stateline Terminal) and 1 Saint George Street East (Little England Terminal), Liverpool, Ohio. In this action, the United States sought civil penalties for S.H. Bell's alleged failure to apply for appropriate permits under the CAA, the Ohio SIP and the Pennsylvania SIP for stationary sources at its two terminals; failure to obtain a permit to install (“PTI”), and timely comply with control requirements of a valid PTI, as required by the Ohio SIP at certain stationary sources at its East Liverpool facility; and violations of the General Provisions of the New Source Performance Standards (“NSPS”) set forth at 40 CFR 60.7 and 60.8 for nonmetallic mineral processing plants. Under the Consent Decree, S.H. Bell shall: (1) Pay a civil penalty of $50,000; (2) comply with all applicable emissions limitations and testing requirements in its existing source operating permits and any amendments; (3) cooperate with Ohio Environmental Protection Agency (“Ohio EPA”) and Pennsylvania Department of Environmental Protection (“Pennsylvania DEP”) officials in the processing of S.H. Bell's filed applications for appropriate source permits at its East Liverpool facility; (4) certify that it does not currently process nonmetallic minerals at its East Liverpool facility, and in the event that it resumes processing such nonmetallic minerals, comply with applicable provisions of NSPS; and (5) implement two Supplemental Environmental Projects valued at $386,592, consisting of a Truck Loadout Shed and Road Paving Projects at its East Liverpool facility.

The Department of Justice previously provided notice that it would receive comments relating to the Consent Decree for a period of 30 days from the original publication of notice of lodging in the Federal Register. That comment period would have ended on February 24, 2008. A private citizen group requested an extension of time to submit comments on the Consent Decree. The Department of Justice, in consultation with EPA, determined that the extension is appropriate and that the public comment period should be extended for a period of two weeks. Therefore, the United States Department of Justice will accept comments on the proposed Consent Decree through March 10, 2008.

Comments should be addressed to the Assistant Attorney General, Environment and Natural Resources Division, and either e-mailed to pubcomment-ees.enrd@usdoj.gov or mailed to United States Department of Justice, P.O. Box 7611, Washington, DC 20044-7611, and should refer to United States v. S.H. Bell Co., Civil No. 4:08-cv-96 (N.D. Ohio), and DOJ Reference No. 90-5-2-1-07823.

The proposed Consent Decree may be examined at: (1) The Office of the United States Attorney for the Northern District of Ohio, 801 West Superior Avenue, Suite 400, Cleveland, OH, 44113 (216-622-3600); and (2) the United States Environmental Protection Agency (Region 5), 77 West Jackson Blvd., Chicago, IL 60604-3507 (contact: John C. Matson (312-886-2243)).

During the public comment period, the proposed Consent Decree may also be examined on the following U.S. Department of Justice Web site, http://www.usdoj.gov/enrd/Consent_Decrees.html. A copy of the proposed Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation no. (202) 514-1547. In requesting a copy from the Consent Decree Library, please refer to the referenced case and DOJ Reference Number and enclose a check in the amount of $10.00 for the Consent Decree only (40 pages, at 25 cents per page reproduction costs), or $19.25 for the Consent Decree and Appendix A (77 pages), made payable to the U.S. Treasury or, if by e-mail or fax, forward a check in that amount to the Consent Decree Library at the stated address.

William D. Brighton,
Assistant Chief, Environmental Enforcement Section, Environment and Natural Resources Division.

[FR Doc. E8-3543 Filed 2-25-08; 8:45 am]

BILLING CODE 4410-15-P